ENVIRONMENTAL PROTECTION AGENCY

[ER-FRL-9037-2]

Environmental Impact Statements; Notice of Availability

Responsible Agency: Office of Federal Activities, General Information (202) 564-7156 or http://www2.epa.gov/nepa.

Weekly receipt of Environmental Impact Statements

Filed 01/08/2018 Through 01/12/2018

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180001, Draft, USFS, ID, Little Boulder Project, Comment Period Ends: 03/09/2018, Contact: Stephanie Israel 208-476-8344.

EIS No. 20180002, Final, FHWA, MO, I-70 Second Tier Combined Final Environmental Impact Statement and Record of Decision, Pursuant to 23 U.S.C. 139(N), The 30-day wait/review period does not apply to this FEIS, Contact: Kevin W. Ward 573-638-2600.

EIS No. 20180003, Draft, USFS, NV, Mt. Rose Ski Tahoe—Atoma Area Project, Comment Period Ends: 04/19/2018, Contact: Marnie Bonesteel 775-352-1240.

EIS No. 20180004, Final, BR, NM, Pojoaque Basin Regional Water System EIS, Review Period Ends: 02/20/2018, Contact: Sarah Branum 505-462-3591.

EIS No. 20180005, Draft, USFS, CO, Steamboat Ski Area Improvements, Comment Period Ends: 03/05/2018, Contact: Erica Dickerman 970-870-2185.

Dated: January 16, 2018.
Kelly Knight,
Director, NEPA Compliance Division, Office of Federal Activities.

[FR Doc. 2018-00929 Filed 1-18-18; 8:45 am]

BILLING CODE P